INTERNATIONAL TRADE COMMISSION

[Investigations No. 731-TA-1140 (Final)]

Uncovered Innerspring Units From China

AGENCY: United States International Trade Commission.

ACTION: Additional scheduling date for the subject investigations.

DATES: Effective Date: January 5, 2009.

FOR FURTHER INFORMATION CONTACT: Jennifer Merrill (202-205-3188), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective July 30, 2008, the Commission established a schedule for the conduct of the final phase of the subject investigations (73 FR 49219, August 20, 2008). Subsequently, the Department of Commerce extended the date for its final determination in the investigation on China to December 19, 2008 (73 FR 50932, August 29, 2008).¹ Accordingly, the Commission is, hereby, issuing its additional scheduling date with respect to the antidumping duty investigation concerning China as follows: A supplemental brief addressing only Commerce's final antidumping duty determination is due on January 8, 2009. The brief may not exceed five (5) pages in length.

¹ Effective October 21, 2008, Commerce issued its final antidumping duty determinations for South Africa (73 FR 62481) and Vietnam (73 FR 62479).

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: January 5, 2009.
William R. Bishop,
Hearings and Meetings Coordinator.

[FR Doc. E9-117 Filed 1-7-09; 8:45 am]

BILLING CODE 7020-02-P